DEPARTMENT OF THE INTERIOR

National Park Service

[NPS-WASO-NAGPRA-NPS0035339; PPWOCRADN0-PCU00RP14.R50000]

Notice of Inventory Completion: Auburn University, Auburn, AL, and the U.S. Department of Agriculture, Forest Service, National Forests in Alabama, Montgomery, AL

AGENCY: National Park Service, Interior.

ACTION: Notice.

SUMMARY: In accordance with the Native American Graves Protection and Repatriation Act (NAGPRA), Auburn University and the U.S. Department of Agriculture, Forest Service, National Forests in Alabama (National Forests in Alabama) have completed an inventory of human remains and associated funerary objects and have determined that there is no cultural affiliation between the human remains and associated funerary objects and any Indian Tribe. The human remains and associated funerary objects were removed from Franklin, Lawrence, and Winston Counties, AL.

DATES: Disposition of the human remains and associated funerary objects in this notice may occur on or after March 17, 2023.

ADDRESSES: Michael Walters, Auburn University, 7030 Haley Center, Auburn, AL 36849, telephone (334) 844-5008, email mcw0121@auburn.edu, and Marcus Ridley, United States Forest Service-National Forests in Alabama, Supervisor's Office, 2946 Chestnut Street, Montgomery, AL 36107, telephone (334) 832-4470 Ext.103, email marcus.ridley@usda.gov.

SUPPLEMENTARY INFORMATION: This notice is published as part of the National Park Service's administrative responsibilities under NAGPRA. The determinations in this notice are the sole responsibilities of Auburn University and the National Forests in Alabama. The National Park Service is not responsible for the determinations in this notice. Additional information on the determinations in this notice, including the results of consultation, can be found in the inventory or related records held by the Auburn University and the National Forests in Alabama.

Description

At an unknown date, human remains representing, at minimum, one individual were removed from William B. Bankhead National Forest, located in Franklin, Lawrence, and Winston Counties, AL. Precise details regarding the location and manner of removal of these human remains are unknown. At an unknown date, the human remains were given to Dr. John Cottier, a professor of anthropology at Auburn University, as a donation to the University. A label accompanying the human remains states, “From a bluff shelter in Bankhead National Forest” and “John Miner Gift.” These human remains belong to a juvenile approximately 8-to-10 years old. The 38 associated funerary objects are 21 lithic fragments, 16 ceramic sherds, and one lot of faunal materials.

Aboriginal Land

The human remains and associated funerary objects in this notice were removed from a known geographic location. This location is the aboriginal land of one or more Indian Tribes. The following information was used to identify the aboriginal land: the Treaty with the Chickasaw of 1816, the Treaty with the Cherokee of 1816, and the Indian Claims Commission (ICC) Findings of Fact from April 4, 1970. The two treaties indicate that the land from which the Native American human remains and associated funerary objects were removed is the aboriginal land of the Cherokee Nation, Eastern Band of Cherokee Indians, The Chickasaw Nation, and the United Keetoowah Band of Cherokee Indians in Oklahoma. The ICC Findings of Fact indicate that the land from which the human remains and associated funerary objects were removed is also the aboriginal land of the Alabama-Coushatta Tribe of Texas, Alabama-Quassarte Tribal Town, Coushatta Tribe of Louisiana, Kialegee Tribal Town, Miccosukee Tribe of Indians, Poarch Band of Creek Indians, Seminole Tribe of Florida, The Muscogee (Creek) Nation, The Seminole Nation of Oklahoma, and the Thlopthlocco Tribal Town.

Determinations

Pursuant to NAGPRA and its implementing regulations, and after consultation with the appropriate Indian Tribes, Auburn University and the National Forests in Alabama have determined that:

• The human remains described in this notice represent the physical remains of one individual of Native American ancestry.

• The 38 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Alabama-Coushatta Tribe of Texas; Alabama-Quassarte Tribal Town; Cherokee Nation; Coushatta Tribe of Louisiana; Eastern Band of Cherokee Indians; Kialegee Tribal Town; Miccosukee Tribe of Indians; Poarch Band of Creek Indians; Seminole Tribe of Florida; The Chickasaw Nation; The Muscogee (Creek) Nation; The Seminole Nation of Oklahoma; Thlopthlocco Tribal Town; and the United Keetoowah Band of Cherokee Indians in Oklahoma.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after March 17, 2023. If competing requests for disposition are received, Auburn University and the National Forests in Alabama must determine the most appropriate requestor prior to disposition. Requests for joint disposition of the human remains and associated funerary objects are considered a single request and not competing requests. Auburn University and the National Forests in Alabama are responsible for sending a copy of this notice to the Indian Tribes identified in this notice.

Authority: Native American Graves Protection and Repatriation Act, 25 U.S.C. 3003, and the implementing regulations, 43 CFR 10.9 and 10.11.

Dated: February 8, 2023.
Melanie O'Brien,
Manager, National NAGPRA Program.

[FR Doc. 2023-03237 Filed 2-14-23; 8:45 am]

BILLING CODE 4312-52-P